OFFICE OF MANAGEMENT AND BUDGET

Budget Rescissions and Deferrals

January 18, 2001.

Dear Mr. President: In accordance with the Congressional Budget and Impoundment Control Act of 1974, I herewith report two deferrals of budgetary resources, totaling $1.9 billion.

The deferrals affect programs of the Department of State and International Security Assistance.

Sincerely,

William J. Clinton

The White House, Washington.

The Honorable Albert Gore, Jr.

President of the Senate

Washington, D.C. 20515.

January 18, 2001.

Dear Mr. Speaker: In accordance with the Congressional Budget and Impoundment Control Act of 1974, I herewith report two deferrals of budgetary resources, totaling $1.9 billion.

The deferrals affect programs of the Department of State and International Security Assistance.

Sincerely,

William J. Clinton

The White House, Washington.

The Honorable J. Dennis Hastert

Speaker of the House of Representatives

Washington, D.C. 20510.

Deferral of Budget Authority

Report Pursuant to Section 1013 of Pub. L. 93-344

[Deferral Number D01-1]

Agency: Department of State.

Bureau: Other.

Account: United States emergency refugee and migration assistance fund ¹ (11X0400).

¹ This account was the subject of a similar deferral in FY 2000 (D00-1).

New budget authority: $14,967,000.

Other budgetary resources: 149,569,437.

Total budgetary resources: 164,536,437.

Amount deferred for entire year: 145,309,659 ².

² Subsequent releases have reduced the amount deferred to $127,276,659.

Justification: This deferral withholds funds available for emergency refugee and migration assistance for which no determination has been made by the President to provide assistance as required by Executive Order No. 11922. Funds will be released as the President determines assistance to be furnished and designates refugees to be assisted by the Fund. This deferral action is taken under the provisions of the Antideficiency Act (31 U.S.C. 1512).

Section 2(c) of the Migration and Refugee Assistance Act of 1962 (22 U.S.C. 2601), as amended, authorizes a fund that enables the President to provide emergency assistance for unexpected urgent refugee and migration needs.

Executive Order No. 11922 of June 16, 1976, allocated all funds appropriated to the President for emergency refugee and migration assistance to the Secretary of State, but reserved for the President the determination of assistance to be furnished and the designation of refugees to be assisted by the Fund.

Estimated programmatic effect: None.

Deferral of Budget Authority

Report Pursuant to Section 1013 of Pub. L. 93-344

[Deferral No. D01-2]

Agency: International Assistance Programs.

Bureau: International Security Assistance.

Account: Economic support fund ¹ (72X1037, 720/11037, 720/21037, 721/21037).

¹ This account was the subject of a similar deferral in FY 2000 (D00-2).

New budget authority: $2,314,896,000.

Other budgetary resources: 95,102,439.

Total budgetary resources: 2,409,998,439.

Amount deferred for entire year: ,801,382,439 ².

² The amounts deferred by account are:

72X1037: $15,652,603

720/11037: 51,629,836

720/21037: 254,300,000

721/21037: 1,479,800,000

Total: 1,801,382,439

Subsequent releases have reduced the amount deferred to $1,759,362,439.

Justification: This deferral withholds funds available for international assistance pending the development of country-specific plans that assure that aid is provided in an efficient manner. Funds also are reserved for unanticipated program needs. This action is taken pursuant to the Antideficiency Act (31 U.S.C. 1512).

The President is authorized by the Foreign Assistance Act of 1961, as amended, to furnish assistance to countries and organizations, on such terms and conditions as he may determine, in order to promote economic or political stability. Section 531(b) of the Act makes the Secretary of State, in cooperation with the Administrator of the Agency for International Development, responsible for policy decisions and justifications for economic support programs, including whether there will be an economic support program for a country and the amount of the program for each country. This deferral of funds for the Economic Support Fund includes funds for the International Fund for Ireland.

Estimated programmatic effect: None.

[FR Doc. 01-2934 Filed 2-2-01; 8:45 am]

BILLING CODE 3110-01-P